LEGAL SERVICES CORPORATION

Sunshine Act Meeting

TIME AND DATE: The Operations and Regulations Committee of the Legal Services Corporation Board of Directors will meet virtually on January 13, 2023. The meeting will commence at 11:30 a.m. EST, and will continue until the conclusion of the Committee's agenda.

PLACE: Public Notice of Virtual Meetings.

LSC will conduct the January 13, 2023 meeting via Zoom.

Public Observation: Unless otherwise noted herein, the Committee meeting will be open to public observation via Zoom. Members of the public who wish to participate remotely in the public proceedings may do so by following the directions provided below.

Directions for Open Session:

January 11, 2023

• To join the Zoom meeting by computer, please use this link.

○ https://lsc-gov.zoom.us/j/87378592593?pwd=TGJVcWN5TmU5TXZhaXJoeDZHcnJKUT09&from=addon

○ Meeting ID: 873 7859 2593

○ Passcode: 187707

• To join the Zoom meeting with one tap from your mobile phone, please click dial:

○ +13017158592,,87378592593# US (Washington DC)

○ +13126266799,,87378592593# US (Chicago)

• To join the Zoom meeting by telephone, please dial one of the following numbers:

○ +1 301 715 8592 US (Washington DC)

○ +1 312 626 6799 US (Chicago)

○ +1 646 876 9923 US (New York)

○ +1 408 638 0968 US (San Jose)

○ +1 669 900 6833 US (San Jose)

○ +1 253 215 8782 US (Tacoma)

○ +1 346 248 7799 US (Houston)

○ Meeting ID: 873 7859 2593

○ Passcode: 187707

Once connected to Zoom, please immediately mute your computer or telephone. Members of the public are asked to keep their computers or telephones muted to eliminate background noise. To avoid disrupting the meetings, please refrain from placing the call on hold if doing so will trigger recorded music or other sound.

From time to time, the Committee Chair may solicit comments from the public. To participate in the meeting during public comment, use the `raise your hand' or `chat' functions in Zoom and wait to be recognized by the Chair before stating your questions and/or comments.

STATUS: Open.

MATTERS TO BE CONSIDERED:

OPEN SESSION

1. Approval of Agenda

2. Approval of Minutes of the Committee's Open Session Meeting on October 4, 2022

3. Discussion of Committee's Self-Evaluation for 2022 and Goals for 2023

4. Discussion of Management's Report on Implementation of LSC's Strategic Plan for 2021-2024

• Ron Flagg, President

5. Public Comment

6. Consider and Act on Other Business

7. Consider and Act on Adjournment of Meeting

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

Dated: December 23, 2022.
Jessica Wechter,
Special Assistant to the President, Legal Services Corporation.

[FR Doc. 2022-28421 Filed 12-27-22; 11:15 am]

BILLING CODE 7050-01-P